EXPORT-IMPORT BANK OF THE UNITED STATES

Sunshine Act Meeting; Notice of a Partially Open Meeting of the Board of Directors of the Export-Import Bank of the United States.

TIME AND DATE: Monday, December 16, 2019 at 2:00 p.m.

PLACE: The meeting will be held at Ex-Im Bank in Room 1125, 811 Vermont Avenue NW, Washington, DC 20571.

STATUS: The meeting will be open to public observation for Item No. 1 only.

MATTERS TO BE CONSIDERED: Item No. 1 Small Business Update

CONTACT PERSON FOR MORE INFORMATION: Members of the public who wish to attend the meeting should call Joyce Stone, Office of the General Counsel, 811 Vermont Avenue NW, Washington, DC 20571, (202) 565-3336 by close of business Thursday, December 12, 2019.

Joyce Brotemarkle Stone,
Assistant Corporate Secretary.

[FR Doc. 2019-25964 Filed 11-26-19; 11:15 am]

BILLING CODE 6690-01-P